COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds products and services to the Procurement List that will be furnished by nonprofit agencies employing persons who are blind or have other severe disabilities.

DATES: Effective Date: 9/1/2014.

ADDRESSES: Committee for Purchase From People Who Are Blind or Severely Disabled, 1401 S. Clark Street, Suite 10800, Arlington, Virginia 22202-4149.

FOR FURTHER INFORMATION CONTACT: Barry S. Lineback, Telephone: (703) 603-7740, Fax: (703) 603-0655, or email CMTEFedReg@AbilityOne.gov.

SUPPLEMENTARY INFORMATION:

Additions

On 6/6/2014 (79 FR 32716-32718) and 6/20/2014 (79 FR 35320), the Committee for Purchase From People Who Are Blind or Severely Disabled published notices of proposed additions to the Procurement List.

After consideration of the material presented to it concerning capability of qualified nonprofit agencies to provide the products and services and impact of the additions on the current or most recent contractors, the Committee has determined that the products and services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 8501-8506) in connection with the products and services proposed for addition to the Procurement List.

End of Certification

Accordingly, the following products and services are added to the Procurement List:

Products:

NSN: 7490-00-NIB-0044—Paper Shredder, High Security, Level 6, Cabinet Style

NSN: 7490-00-NIB-0045—Paper Shredder, Desk-Side, Personal, Level 3, Cross-Cut

NPA: LC Industries, Inc., Durham, NC

Contracting Activity: General Services Administration, New York, NY

Coverage: A-List for the Total Government Requirement as aggregated by the General Services Administration, New York, NY.

Services

Service Type/Location: Custodial Service, Federal Aviation Administration, Atlanta Large TRACON, 784 Highway 74 South, Peachtree City, GA

NPA: New Ventures Enterprises, Inc., LaGrange, GA

Contracting Activity: Dept. of Transportation, Federal Aviation Administration, College Park, GA

Service Type/Location: Administrative Contract Close-Out Support Service, Consumer Financial Protection Bureau, 1625 Eye Street NW., Washington, DC

NPA: ServiceSource, Inc., Alexandria, VA

Contracting Activity: Department of Treasury, Bureau of the Fiscal Service, PSB 3, Parkersburg, WV

Barry S. Lineback,
Director, Business Operations.

[FR Doc. 2014-18137 Filed 7-31-14; 8:45 am]

BILLING CODE 6353-01-P